DEPARTMENT OF STATE

[Public Notice 4924]

Bureau of Educational and Cultural Affairs (ECA) Request for Grant Proposals: Arts Exchanges on International Issues Program

Announcement Type: New Grant.

Funding Opportunity Number: ECA/PE/C/CU-05-16.

Catalog of Federal Domestic Assistance Number: 19.409.

Key Dates:

Application Deadline: Tuesday, February 15, 2005.

Executive Summary: The Cultural Programs Division of the Office of Citizen Exchanges, Bureau of Educational and Cultural Affairs announces an open competition for grants that support exchanges and build relationships between U.S. non-profit arts, educational and cultural organizations and their counterparts overseas. U.S. public and non-profit organizations meeting the provisions described in Internal Revenue code section 26 U.S.C. 501 (c)(3) may submit proposals that support the goals of the Arts Exchanges on International Issues Program: to promote mutual understanding and partnerships between key professionals in the arts and arts management and their organizations in the United States and in other countries through multi-phased exchange projects taking place over one to three years. An applicant may work with other U.S. non-profit partners to combine the strengths of their organizations and submit a joint project proposal. Please note, that in joint project proposals the role of each organization must be clearly defined and any sub-granting agreements must be included in the proposal submission.

To the fullest extent possible programs should be two-way exchanges supporting roughly equal numbers of participants from the U.S. and foreign countries. Participants may be professional artists, arts educators, arts administrators or other arts and cultural experts.

Through these people-to-people exchanges, the Bureau seeks to break down stereotypes that divide peoples, enhance understanding of democratic processes, contribute to conflict resolution and build respect for cultural expression and identity in a world that is experiencing rapid globalization. The Bureau is especially interested in engaging socially and economically diverse groups of young people, who may not have had extensive contact with their counterparts and institutions in the United States. Priority will be given to proposals that engage these participants in countries with significant Muslim, and where appropriate in the Western Hemisphere, indigenous populations. We are especially interested in projects that accomplish these goals in part by addressing public audiences, where appropriate to the project.

For the purposes of this competition, eligible regions are Africa, East Asia, Eurasia, Central and Southeastern Europe, the Near East/North Africa, South Asia, and the Western Hemisphere. No guarantee is made or implied that grants will be awarded in all themes and for all regions. As stated above, in the Western Hemisphere region, the Bureau is particularly interested in projects that include indigenous populations.

Applicants proposing projects involving Afghanistan, Pakistan and Iraq should demonstrate in their Narrative Sections their awareness of security issues that will affect the ability of the grantee organization to arrange for travel of U.S. citizens to these countries or to conduct site visits, participant interviews, seminars, workshops or training sessions there. All travel to, and activities conducted in, these countries will be subject to consultation with and approval of official U.S. security personnel in country. The applicant should be prepared to modify timing or to reconfigure project implementation plans as required by security considerations.

Proposed projects should be designed to foster positive dialogue, joint creative activities and co-operative artistic endeavors that respond to one of five U.S. foreign policy themes: (1) Conflict Resolution; (2) New Opportunities for Youth, especially in Muslim countries; (3) Respect for Cultural Identity and Creative Products; (4) Governance, Accountability and Transparency in Cultural Management; and (5) HIV and AIDS Awareness and Prevention. [Please see the Purpose Section below for a further description of these themes]. Projects must include one or more of the following disciplines: Performing Arts [including, but not limited to Dance, Music, Traditional Arts and Theater], Visual Arts, Arts Education, Arts Management, and Film/Video/Digital Media.

I. Funding Opportunity Description

Authority: Overall grant making authority for this program is contained in the Mutual Educational and Cultural Exchange Act of 1961, Pub. L. 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program above is provided through legislation.

Purpose: The Bureau seeks proposals that will demonstrate the effectiveness of arts and cultural programs to address the following priority themes: (1) Conflict Resolution; (2) New Opportunities for Youth, especially in Muslim countries; (3) Respect for Cultural Identity and Creative Products; (4) Governance, Accountability and Transparency in Cultural Management; and (5) HIV and AIDS Awareness and Prevention. The Bureau is particularly interested in projects that will create mutually beneficial and self-sustaining linkages between professional communities in the U.S. and their counterpart communities in other countries. Proposals that show strong prospects for enhancing existing long-term collaboration or establishing new collaborative efforts among participating organizations will be deemed more competitive under the program planning criteria listed below.

The Cultural Programs Division seeks proposals for international exchange projects that employ various artistic disciplines/subjects as vehicles for increasing awareness about our five priority policy issues. Projects must concentrate on furthering the participants' and the audience members' understanding of the issues associated with the foreign policy topics listed below. All proposals submitted in response to this RFGP must present strategies for communicating about a policy issue through the selected artistic discipline. The foreign policy topics included in this RFGP are defined as follows:

1. Conflict Resolution

Bridging differences between peoples, communities and countries is an important aspect of the democratic process. Conflict resolution is the implementation of peaceful, non-violent mediation and dispute resolution strategies to achieve mutual agreement among community and interest groups, political parties and nations. Applicants should demonstrate their knowledge and understanding of the conflict situation in which they propose to work. Proposal narratives should include a description of the basis of the conflict and possible reconciliation objectives (dialogue, information sharing, etc.)

2. New Opportunities For Youth, Especially in Muslim Countries

Reaching out to Muslim youth—who are the catalysts for change in their societies—is an essential step toward democracy building. ECA hopes through collaborative projects, that the United States may further the participants' understanding of freedom and democracy. To the fullest extent possible, programs should strengthen voices of moderation, reinforce the United State's commitment to education and opportunity, build on values shared by the United States and Muslim societies and create a platform for positive dialogue.

3. Respect for Cultural Identity and Creative Products

The United States, as a culturally diverse nation, strongly supports and promotes cultural diversity both at home and globally. The U.S. values each nation's cultural identity and is committed to helping all countries preserve and protect their cultural heritage and identity. One means of doing so is ensuring the development of appropriate systems for protecting intellectual property. Protection of intellectual property contributes to a country's economic development and trade relationships, and increased trade brings greater consumer awareness and support for a country's cultural goods. In addition, enhancing local cultural production capacities and distribution mechanisms for cultural products can contribute to a stronger cultural identity. For the purposes of this RFGP, cultural heritage may also include, for example, conserving or developing a specific archaeological or culturally important site or maintaining, preserving and restoring a country's cultural artifacts or audiovisual records. This theme also includes projects to develop cultural tourism for a country or region. All proposals related to this theme should include a strong exchange component involving U.S. and foreign visual and performing artists, writers, filmmakers, and arts managers, rather than exchanges principally among legal, economic development, or other professionals.

4. Governance, Accountability and Transparency in Cultural Management

Cultural organizations are an important component of civil society, serving to identify, develop and strengthen social values. Cultural organizations often have a special role in reaching youth, disadvantaged groups within the society, and specific ethnic or social communities, both to support their group identity and to help define the way in which the group relates to society at large. To fulfill this role and to maintain the confidence of their stakeholders, audiences, and funders, the managers of cultural organizations have the same responsibility for open and effective management in support of their goals, as do other non-governmental organizations.

5. HIV and AIDS Awareness and Prevention

Concern about the growing numbers of people with HIV and AIDS, especially in areas with limited access to educational and treatment programs, reaches across all geographic regions. Proposals under this theme will have the following goals: encourage prevention, further education and decrease the stigma of HIV and AIDS through the arts. Proposals will target youth, people living with HIV and AIDS, related NGOs, schools and community groups. Exchange activities will bring together HIV and AIDS professionals and artists from the U.S. and overseas to discuss and implement ways to decrease the stigma of HIV and AIDS with positive social messages via artistic disciplines. Projects should employ the arts as a mechanism for social change and for publicizing positive messages about HIV and AIDS prevention and treatment.

The artistic disciplines/subjects included in this Request for Proposals are as follows:

Performing Arts Including Dance, Music, Traditional Arts and Theater

ECA welcomes projects that address one or more of our priority foreign policy themes through the exchange of dance, music, traditional arts and/or theater professionals working collaboratively to develop new and innovative projects. Proposals should focus on the exchange of expertise and best practices between U.S. and overseas performing arts organizations, including strategies for building relationships between the organizations and their communities. The presentation of performances overseas, as a part of a larger exchange project, may be funded under this topic. Production costs for performances in the U.S. cannot be funded by ECA, but can be included in the applicant organization's cost share. ECA seeks proposals that support the professional development of the U.S. and foreign artists, and provide a personal connection between U.S. and overseas individuals and institutions. Projects that focus only on performance tours and/or a performing arts festival will not be eligible under this RFGP. Contact: Kathryn Wainscott, tel: (202) 203-7499, WainscottKK@state.gov.

Visual Arts

Proposals are sought for projects that address one or more of the priority policy themes through projects in the full range of visual art activities. Proposals should include reciprocal exchange components for U.S. curators, artists and institutions. Projects should include opportunities for American and overseas curators and artists to present lectures, workshops, residencies, and master classes. All of these activities may be presented to enhance an education component of an exhibition. The overseas costs of exhibition presentation are eligible for support. Domestic presentation costs should be presented as part of the institution's cost share. Proposals that solely focus on the development, production and presentation of exhibitions and lack a substantive professional exchange component will not be eligible for support under this RFGP. Contacts: Leanne Mella, tel: (202) 203-7497, MellaLA@state.gov; or E.J. Montgomery, tel: (202) 203-7498, MontgomeryEJ@state.gov.

Arts Education

Proposals submitted under this topic may include collaborative activities and two-way exchanges between staff members of education departments of non-profit arts and cultural organizations. Project components under this theme may encompass the joint creation of film/digital/ media, visual and/or performing arts education programs to further students' abilities to express their ideas through their own artistic creations, increase their critical analysis skills and discover alternative views of their own and other people's cultural identity. Exchanges of primary and secondary teachers and curriculum and/or textbook development or publishing will not be eligible for support under this RFGP.

Contact: Jill Staggs, tel.: (202) 203-7500, Staggsjj@state.gov.

Arts Management

Projects may address management issues in a particular arts discipline or issues that affect arts organizations generally in a given country or region. Areas of possible interest would include board development, membership, fundraising, government relations, facilities management, audience development and marketing, and volunteer program management and the development of public/private partnerships. Proposals must demonstrate the applicant's capacity to link the special needs of arts and cultural organizations with general principles of management and civil society development. Proposals should include creative and innovative approaches to sharing experiences and best practices in arts management. Stand-alone conferences or lecture series will not be eligible for support under this RFGP (Please see Ineligible Projects Section below for more information about conferences). Contact: Jill Staggs, tel.: (202) 203-7500, Staggsjj@state.gov.

Film, Video and Digital Media

Proposals are sought that use feature films, documentaries, animated films, video or digital media in a cross-cultural outreach and exchange program designed to support one or more of our foreign policy themes. Proposals should focus on the collaborative creative process and could involve any of the creative or business aspects of filmmaking, i.e. directing, screenwriting, editing, cinematography, animation, film scoring, independent filmmaking, marketing, distribution, copyright protection, film preservation, etc. Proposals should involve American filmmakers and other film professionals and provide for workshops, seminars, and master classes in addition to film screenings and other presentations. Proposals may be submitted to fund the production and presentation of a film or other creative endeavor, but only as a natural outgrowth of collaboration and exchange. Such proposals should show significant cost-sharing or in-kind contributions. Proposals that include film presentations as part of outreach efforts are strongly desired. However, proposals that provide solely for screenings with no collaboration and exchange component will not be eligible for support under this RFGP. Contact: Susan Cohen, tel: (202) 203-7509, CohenSL@state.gov.

Proposal Components

The Narrative Section of the proposal must contain: (1) An explanation of why the proposed project is important; (2) a description/analysis of the relationship of your project to the policy themes described above; and (3) a full and detailed description of the project plan.

Each proposal narrative should include an innovative, informed and efficient plan to identify, recruit and/or audition, select and program participants. If the project will involve youth, the proposal must demonstrate the applicant's experience working with youth and implementing substantive and meaningful programs for youth.

The proposal should clearly distinguish between program participants and the program audience. Participants are the relatively few individuals, normally visual or performing artists, filmmakers, writers, arts educators and arts managers who are selected for the exchange components of the program. The audience is the public, which may or may not be selected or invited, which attends program activities or events, including performances, exhibitions, workshops, and master classes. Both participants and audiences are important elements of the program. The proposal should clearly define the types of participants who will be recruited and the target audience for program activities and should clearly explain the importance of each to the overall program plan.

The proposal narrative should explicitly state the applicant's commitment to consult closely with the Public Affairs Section of the U.S. Embassy in the relevant overseas country(ies) to develop plans for project implementation and to select project participants. Applicants should state their willingness to invite representatives of the embassy(ies) and/or consulate(s) to participate in program sessions or site visits. Applicants are also encouraged to consult with Public Affairs Officers at U.S. embassies in relevant countries as they develop proposals responding to this RFGP. Narratives should state that all material developed for the project will prominently acknowledge Department of State Educational and Cultural Bureau funding for the program. Proposals should acknowledge U.S. embassy involvement in the final selection of all participants.

Competitive proposals will include the following:

• A brief description of the problem as it relates to the target country or region. (Proposals that request resources for an initial needs assessment will be deemed less competitive.);

• A clear statement of program objectives and projected outcomes that respond to Bureau goals for each theme in this competition. Desired outcomes should be described in qualitative and quantitative terms. (See the Program Monitoring and Evaluation section below, for more information on project objectives and outcomes);

• A description of participant selection processes;

• A project timeline, listing the optimal schedule for each program activity;

• An alternative timeline and/or contingency program plan if the project will include countries with security issues;

• Demonstrated knowledge of overseas partner organization(s), including a description of each organization and an explanation of how partner organizations were selected

• Letters of support from foreign and U.S. partners

• An outline of the applicant organization's relevant expertise in the project theme and country(ies);

• Documentary evidence, such as published reviews, letters of endorsement from known experts, or the like, indicating the applicant's ability to organize a program of artistic merit and quality. Please note that work samples such as recordings, videotapes, catalogs and slides of work are not requested and cannot be reviewed;

• An outline of relevant experience managing previous international arts and/or cultural exchange programs;

• Resumes of experienced staff who have demonstrated a commitment to monitor grant projects and ensure implementation;

• A comprehensive plan to evaluate whether program outcomes achieved met the specific objectives described in the narrative. (See the Program Monitoring and Evaluation Section)

• A post-grant plan that demonstrates how the grantee plans to maintain contacts initiated through the program. Applicants should discuss ways that U.S. and foreign participants or host institutions could continue their exchange activities through on-going or future projects, once the ECA-funded grant has concluded.

Ineligible Projects

The Arts Exchanges on International Issues Program is not open to amateur or community-based visual or performing artists. Our grant program is solely intended to support the international exchange work of non-profit organizations. Individuals are not eligible to apply for funding of their own work. While our program emphasizes outreach to youth, all exchange participants must be at least 18 years of age. However, educators, managers, program directors and administrators who work with youth and/or youth related non-profit organizations are encouraged to apply for grant support under this competition. The Office of Citizens Exchanges does not support proposals limited to conferences or seminars (i.e. one-to-fourteen day programs with plenary sessions, main speakers, panels and a passive audience). It will support conferences only when they are a small part of a larger project in duration that is receiving Bureau funding from this competition. The Office does not support academic research or faculty or student fellowships.

II. Award Information

Type of Award: Grant Agreement.

Fiscal Year Funds: 2005.

Approximate Total Funding: $1,000,000.

Approximate Number of Awards: 5-10.

Approximate Average Award:

Floor of Award Range: $50,000.

Ceiling of Award Range: $300,000.

Anticipated Award Date: Pending availability of funds, June 1, 2005.

Anticipated Project Completion Date: June 1, 2006-June 30, 2008.

III. Eligibility Information

III.1. Eligible Applicants

Applications may be submitted by public and private non-profit organizations meeting the provisions described in Internal Revenue Code section 26 U.S.C. 501(c)(3).

III.2. Cost Sharing or Matching Funds

There is no minimum or maximum percentage required for this competition. However, the Bureau encourages applicants to provide maximum levels of cost sharing and funding in support of its programs. Cost-sharing is an important element of the ECA-grantee institution relationship, and it demonstrates the implementing organization's commitment to the program. Cost-sharing is included as one criterion for grant proposal evaluation.

When cost sharing is offered, it is understood and agreed that the applicant must provide the amount of cost sharing as stipulated in its proposal and later included in an approved grant agreement. Cost sharing may be in the form of allowable direct or indirect costs. For accountability, you must maintain written records to support all costs, which are claimed as your contribution, as well as costs to be paid by the Federal government. Such records are subject to audit. The basis for determining the value of cash and in-kind contributions must be in accordance with OMB Circular A-110, (Revised), Subpart C.23—Cost Sharing and Matching. In the event you do not provide the minimum amount of cost sharing as stipulated in the approved budget, ECA's contribution will be reduced in like proportion.

III.3. Other Eligibility Requirements

(a) Grants awarded to eligible organizations with less than four years of experience in conducting international exchange programs will be limited to $60,000.

(b) Technical Eligibility: All proposals must comply with the following: (1) Proposal submission deadline date; (2) non-profit organization status; (3) focus on one or more of the specified subject themes, or they will result in your proposal being declared technically ineligible and given no further consideration in the review process.

IV. Application and Submission Information

Note: Please read the complete Federal Register announcement before sending inquiries or submitting proposals. Once the RFGP deadline has passed, Bureau staff may not discuss this competition with applicants until the proposal review process has been completed.

IV.1 Contact Information To Request an Application Package

Please contact the Cultural Programs Division, Office of Citizen Exchanges, ECA/PE/C/CU, Room 568, U.S. Department of State, SA-44, 301 4th Street, SW., Washington, DC 20547, (202) 203-7488, to request a Solicitation Package. Please refer to Funding Opportunity Number ECA/PE/C/CU-05-16 located at the top of this announcement when making your request.

The Solicitation Package contains the Proposal Submission.

Instruction (PSI) document that consists of required application forms, and standard guidelines for proposal preparation.

Please specify Bureau Program Officer, Jill Staggs, and refer to Funding Opportunity Number ECA/PE/C/CU-05-16, located at the top of this announcement on all other inquiries and correspondence.

IV.2. To Download a Solicitation Package Via Internet

The entire Solicitation Package may be downloaded from the Bureau's Web site at http://exchanges.state.gov/education/rfgps/menu.htm. Please read all information before downloading.

IV.3. Content and Form of Submission

Applicants must follow all instructions in the Solicitation Package. The original and 12 copies of the application should be sent per the instructions under IV.3e. “Submission Dates and Times section” below.

IV.3a. You are required to have a Dun and Bradstreet Data Universal Numbering System (DUNS) number to apply for a grant or cooperative agreement from the U.S. Government. This number is a nine-digit identification number, which uniquely identifies business entities. Obtaining a DUNS number is easy and there is no charge. To obtain a DUNS number, access http://www.dunandbradstreet.com or call 1-866-705-5711. Please ensure that your DUNS number is included in the appropriate box of the SF-424 which is part of the formal application package.

IV.3b. All proposals must contain an executive summary, proposal narrative and budget.

Please Refer to the Solicitation Package. It contains the mandatory Proposal Submission Instructions (PSI) document for additional formatting and technical requirements.

IV.3c. You must have nonprofit status with the IRS at the time of application. If your organization is a private nonprofit which has not received a grant or cooperative agreement from ECA in the past three years, or if your organization received nonprofit status from the IRS within the past four years, you must submit the necessary documentation to verify nonprofit status as directed in the PSI document. Failure to do so will cause your proposal to be declared technically ineligible.

IV.3d. Please take into consideration the following information when preparing your proposal narrative:

IV.3d.1 Adherence to All Regulations Governing the J Visa

The Office of Citizen Exchanges of the Bureau of Educational and Cultural Affairs is the official program sponsor of the exchange program covered by this RFGP, and an employee of the Bureau will be the “Responsible Officer” for the program under the terms of 22 CFR 62, which covers the administration of the Exchange Visitor Program (J visa program). Under the terms of 22 CFR 62, organizations receiving grants under this RFGP will be third parties “cooperating with or assisting the sponsor in the conduct of the sponsor's program.” The actions of grantee program organizations shall be “imputed to the sponsor in evaluating the sponsor's compliance with” 22 CFR 62. Therefore, the Bureau expects that any organization receiving a grant under this competition will render all assistance necessary to enable the Bureau to fully comply with 22 CFR part 62 et seq.

The Bureau of Educational and Cultural Affairs places great emphasis on the secure and proper administration of Exchange Visitor (J visa) Programs and adherence by grantee program organizations and program participants to all regulations governing the J visa program status. Therefore, proposals should explicitly state in writing that the applicant is prepared to assist the Bureau in meeting all requirements governing the administration of Exchange Visitor Programs as set forth in 22 CFR part 62. If your organization has experience as a designated Exchange Visitor Program Sponsor, the applicant should discuss their record of compliance with 22 CFR part 62 et seq., including the oversight of their Responsible Officers and Alternate Responsible Officers, screening and selection of program participants, provision of pre-arrival information and orientation to participants, monitoring of participants, proper maintenance and security of forms, record-keeping, reporting and other requirements.

The Office of Citizen Exchanges of ECA will be responsible for issuing DS-2019 forms to participants in this program.

A copy of the complete regulations governing the administration of Exchange Visitor (J) programs is available at http://exchanges.state.gov or from:

United States Department of State, Office of Exchange Coordination and Designation, ECA/EC/ECD—SA-44, Room 734, 301 4th Street, SW., Washington, DC 20547, Telephone: (202) 401-9810, FAX: (202) 401-9809.

IV.3d.2 Diversity, Freedom and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and disabilities. Applicants are strongly encouraged to adhere to the advancement of this principle both in program administration and in program content. Please refer to the review criteria under the ‘Support for Diversity’ section for specific suggestions on incorporating diversity into your proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

IV.3d.3. Program Monitoring and Evaluation

Proposals must include a plan to monitor and evaluate the project's success, both as the activities unfold and at the end of the program. The Bureau recommends that your proposal include a draft survey questionnaire or other technique plus a description of a methodology to use to link outcomes to original project objectives. The Bureau expects that the grantee will track participants or partners and be able to respond to key evaluation questions, including satisfaction with the program, learning as a result of the program, changes in behavior as a result of the program, and effects of the program on institutions (institutions in which participants work or partner institutions). The evaluation plan should include indicators that measure gains in mutual understanding as well as substantive knowledge.

Successful monitoring and evaluation depend heavily on setting clear goals and outcomes at the outset of a program. Your evaluation plan should include a description of your project's objectives, your anticipated project outcomes, and how and when you intend to measure these outcomes (performance indicators). The more that outcomes are “smart” (specific, measurable, attainable, results-oriented, and placed in a reasonable time frame), the easier it will be to conduct the evaluation. You should also show how your project objectives link to the goals of the program described in this RFGP.

Your monitoring and evaluation plan should clearly distinguish between program outputs and outcomes. Outputs are products and services delivered, often stated as an amount. Output information is important to show the scope or size of project activities, but it cannot substitute for information about progress towards outcomes or the results achieved. Examples of outputs include the number of people trained or the number of seminars conducted. Outcomes, in contrast, represent specific results a project is intended to achieve and is usually measured as an extent of change. Findings on outputs and outcomes should both be reported, but the focus should be on outcomes.

We encourage you to assess the following four levels of outcomes, as they relate to the program goals set out in the RFGP (listed here in increasing order of importance):

1. Participant satisfaction with the program and exchange experience.

2. Participant learning, such as increased knowledge, aptitude, skills, and changed understanding and attitude. Learning includes both substantive (subject-specific) learning and mutual understanding.

3. Participant behavior, concrete actions to apply knowledge in work or community; greater participation and responsibility in civic organizations; interpretation and explanation of experiences and new knowledge gained; continued contacts between participants, community members, and others.

4. Institutional changes, such as increased collaboration and partnerships, policy reforms, new programming, and organizational improvements.

Please note: Consideration should be given to the appropriate timing of data collection for each level of outcome. For example, satisfaction is usually captured as a short-term outcome, whereas behavior and institutional changes are normally considered longer-term outcomes.

Overall, the quality of your monitoring and evaluation plan will be judged on how well it (1) Specifies intended outcomes; (2) gives clear descriptions of how each outcome will be measured; (3) identifies when particular outcomes will be measured; and (4) provides a clear description of the data collection strategies for each outcome (i.e., surveys, interviews, or focus groups). (Please note that evaluation plans that deal only with the first level of outcomes [satisfaction] will be deemed less competitive under the present evaluation criteria.)

Grantees will be required to provide reports analyzing their evaluation findings to the Bureau in their regular program reports. All data collected, including survey responses and contact information, must be maintained for a minimum of three years and provided to the Bureau upon request.

IV.3e. Please take the following information into consideration when preparing your budget:

IV.3e.1. Applicants must submit a comprehensive budget for the entire program. Awards may not exceed $300,000. There must be a summary budget as well as breakdowns reflecting both administrative and program budgets. Applicants may provide separate sub-budgets for each program component, phase, location, or activity to provide clarification.

IV.3e.2. Allowable costs for the program include the following:

(1) Travel. International and domestic airfare (per the “Fly America Act”), ground transportation and visas. (J-1 visas for ECA-supported participants from overseas are issued through the Embassies at no charge).

(2) Per Diem. For U.S.-based programming, organizations should use the published Federal per diem rates for individual U.S. cities. Domestic per diem rates may be accessed at: http://policyworks.gov/org/main/mt/homepage/mtt/perdiem/perd03d.html. ECA urges applicants to budget realistic costs, which reflect the local economy and do not exceed Federal per diem rates. Foreign per diem rates can be accessed at: http://www.state.gov/m/a/als/prdm/html.

(3) Interpreters. For U.S.-based activities, ECA strongly encourages applicants to hire their own locally based interpreters. However, applicants may ask ECA to assign State Department interpreters. One interpreter is typically needed for every four participants who require interpretation. When an applicant proposes to use State Department interpreters, the following expenses should be included in the budget: Published Federal per diem rates (both lodging and M&IE) and “home-program-home” transportation in the amount of $400 per interpreter. Salary expenses for State Department interpreters will be covered by the Bureau and should not be part of an applicant's proposed budget. Bureau funds cannot support interpreters who accompany delegations from their home country or travel internationally.

(4) Book and Cultural Allowances. Foreign participants are entitled to a one-time cultural allowance of $150 per person, plus a book allowance of $50. Interpreters should be reimbursed up to $150 for expenses when they escort participants to cultural events. U.S. program staff, trainers or participants are not eligible to receive these benefits.

(5) Consultants. Consultants may be used to provide specialized expertise or to make presentations. Honoraria rates should not exceed $250 per day. Organizations are encouraged to cost-share rates that would exceed that figure. Subcontracting organizations may also be employed, in which case the written agreement between the prospective grantee and subcontractor should be included in the proposal. Such subcontractors should detail the division of responsibilities and proposed costs, and subcontracts should be itemized in the budget.

(6) Room rental. The rental of meeting space should not exceed $250 per day. Any rates that exceed this amount should be cost shared.

(7) Materials. Proposals may contain costs to purchase, develop and translate materials for participants. Costs for high quality translation of materials should be anticipated and included in the budget. Grantee organizations should expect to submit a copy of all program materials to ECA, and ECA support should be acknowledged on all materials developed with its funding.

(8) Costs associated with the presentation of performances, visual arts exhibitions or films overseas, as one component of a larger exchange project, may be included in the budget. Production costs for performances, visual arts exhibitions and film screenings in U.S. cannot be funded by ECA. However, modest domestic presentation costs may be included in the applicant organization's cost share.

(9) Working meals. Only one working meal may be provided during the program. Per capita costs may not exceed $8 for a lunch and $20 for a dinner, excluding room rental. The number of invited guests may not exceed participants by more than a factor of two-to-one. When setting up a budget, interpreters should be considered “participants.”

(10) Return travel of participants. A return travel allowance of $70 for each participant may be included in the budget. This allowance would cover incidental expenses incurred during international travel.

(11) Health Insurance. Foreign participants will be covered during their participation in the program by the ECA-sponsored Accident and Sickness Program for Exchanges (ASPE), for which the grantee must enroll them. Details of that policy can be provided by the contact officers identified in this solicitation. The premium is paid by ECA and should not be included in the grant proposal budget. However, applicants are permitted to include costs for travel insurance for U.S. participants in the budget.

(12) In-country travel costs for visa processing purposes. Given the requirements associated with obtaining J-1 visas for ECA-supported participants, applicants should include costs for any travel associated with visa interviews or DS-2019 pick-up.

(13) Administrative Costs. Costs necessary for the effective administration of the program may include salaries for grantee organization employees, benefits, and other direct and indirect costs per detailed instructions in the Application Package. While there is no rigid ratio of administrative to program costs, proposals in which the administrative costs do not exceed 25% of the total requested ECA grant funds will be more competitive in terms of the cost-effectiveness review criteria. Proposals should show strong administrative cost sharing contributions from the applicant, the in-country partner and other sources.

Please refer to the Solicitation Package for complete budget guidelines and formatting instructions.

IV.3f. Submission Dates and Times

Application Deadline Date: February 8, 2005.

Explanation of Deadlines: In light of recent events and heightened security measures, proposal submissions must be sent via a nationally recognized overnight delivery service (i.e., DHL, Federal Express, UPS, Airborne Express, or U.S. Postal Service Express Overnight Mail, etc.) and be shipped no later than the above deadline. The delivery services used by applicants must have in-place, centralized shipping identification and tracking systems that may be accessed via the Internet and delivery people who are identifiable by commonly recognized uniforms and delivery vehicles. Proposals shipped on or before the above deadline but received at ECA more than seven days after the deadline will be ineligible for further consideration under this competition. Proposals shipped after the established deadlines are ineligible for consideration under this competition. It is each applicant's responsibility to ensure that each package is marked with a legible tracking number and to monitor/confirm delivery to ECA via the Internet. ECA will not notify you upon receipt of application. Delivery of proposal packages may not be made via local courier service or in person for this competition. Faxed documents will not be accepted at any time. Only proposals submitted as stated above will be considered. Applications may not be submitted electronically at this time.

Applicants must follow all instructions in the Solicitation Package.

Important note: When preparing your submission please make sure to include one extra copy of the completed SF-424 form and place it in an envelope addressed to “ECA/EX/PM”.

The original and 12 copies of the application should be sent to:

U.S. Department of State, SA-44, Bureau of Educational and Cultural Affairs, Ref.: ECA/PE/C/CU-05-16, Program Management, ECA/EX/PM, Room 534, 301 4th Street, SW., Washington, DC 20547.

Along with the Project Title, all applicants must enter the above Reference Number in Box 11 on the SF-424 contained in the mandatory Proposal Submission Instructions (PSI) of the solicitation document.

IV.3g. Intergovernmental Review of Applications

Executive Order 12372 does not apply to this program.

Applicants must also submit the “Executive Summary” and “Proposal Narrative” sections of the proposal in text (.txt) format on a PC-formatted disk. The Bureau will provide these files electronically to the appropriate Public Affairs Section(s) at the U.S. embassy(ies) for its(their) review.

V. Application Review Information

V.1. Review Process

The Bureau will review all proposals for technical eligibility. Proposals will be deemed ineligible if they do not fully adhere to the guidelines stated herein and in the Solicitation Package. All eligible proposals will be reviewed by the program office, as well as the Public Diplomacy section overseas, where appropriate. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for grant assistance awards resides with the Bureau's Grants Officer.

Review Criteria

Technically eligible applications will be competitively reviewed according to the criteria stated below. These criteria are not rank ordered and all carry equal weight in the proposal evaluation:

1. Program Planning and Ability to Achieve Objectives: The program plan must illustrate the relevance of a project to one or more of the five U.S. Department of State foreign policy goals listed in the eligible themes. Program objectives should be stated clearly and should reflect the applicant's expertise in the subject area and geographic world region. A detailed agenda and relevant work plan must explain how objectives will be achieved and should include a timetable for completion of major tasks. The substance of workshops, seminars, shadowing experiences and consulting should be described in detail.

2. Institutional Capacity: Proposals should include the institution's mission and date that 501(c) 3 status was approved. Proposals should reflect the institution's prior work with the overseas partner organization(s), expertise in the subject area and knowledge of conditions in the target country/countries, expertise in the artistic discipline, and where relevant, ability to engage young Muslim participants and/or reach out to young Muslim audience members. Descriptions of the experience and qualifications of staff members who will implement the program should be included in the proposals. Applicants also need to include an outline of prior U.S. government and/or private sector grant awards received for the target theme/country/region. The Bureau will consider the past performance of prior recipients and the demonstrated potential of new applicants. The Bureau strongly encourages applicants to submit letters of support and commitment from proposed overseas partner organizations.

3. Cost Effectiveness and Cost Sharing: Overhead and administrative costs in the proposal budget, including salaries, honoraria and subcontracts for services, should be kept to a minimum. Priority will be given to proposals whose administrative costs are less that twenty five (25) per cent of the total funds requests from the Bureau. Applicants are strongly encouraged to cost share a portion of overhead and administrative expenses. Cost sharing, including contributions from the applicant, proposed in-country partner (s) and other sources should be included in the budget request. Proposals that do not reflect cost sharing will be deemed not competitive in this category. Costs for domestic performing arts presentations and/or visual arts exhibitions and/or film screenings must be cost-shared, as ECA will not fund these costs.

4. Support of Diversity: Proposals should demonstrate substantive support of the Bureau's policy on diversity. Achievable and relevant features should be cited in both program administration (selection of participants, program venue and program evaluation) and program content (orientation and wrap-up sessions, program meetings, resource materials and follow-up activities). Applicants should refer to the Bureau's Diversity, Freedom and Democracy Guidelines in the Proposal Submission Instructions (PSI) for guidance.

5. Post-Grant Activities: Applicants should provide a plan to conduct activities after the Bureau-funded project has concluded in order to ensure that Bureau-supported programs are not isolated events. Post-grant activities must be funded by contributions from the applicants or sources outside the Bureau. Costs for these activities should not appear in the proposal budget, but should be outlined in the narrative.

6. Monitoring and Evaluation: Proposals should include a detailed plan to monitor and evaluate the program. Competitive evaluation plans will describe how applicant organizations will measure the project's success at meeting program objectives in quantitative terms, and should include draft data collection instruments such as surveys and questionnaires. Proposals should include a plan to evaluate the activity's success, both as the activities unfold and at the end of the program. As stated previously, ECA is especially interested in the results of project activities both in terms of the impact on audiences as well as on participants. It is the applicant's responsibility to inform the Bureau of exchange activity results and changes to the program plan and/or project time-line.

VI. Award Administration Information

VI.1a. Award Notices: Final awards cannot be made until funds have been appropriated by Congress, allocated and committed through internal Bureau procedures. Successful applicants will receive an Assistance Award Document (AAD) from the Bureau's Grants Office. The AAD and the original grant proposal with subsequent modifications (if applicable) shall be the only binding authorizing document between the recipient and the U.S. Government. The AAD will be signed by an authorized Grants Officer, and mailed to the recipient's responsible officer identified in the application.

Unsuccessful applicants will receive notification of the results of the application review from the ECA program office coordinating this competition.

VI.1b The following additional requirements apply to this project:

VI.2 Administrative and National Policy Requirements

Terms and Conditions for the Administration of ECA agreements include the following:

Office of Management and Budget Circular A-122, “Cost Principles for Nonprofit Organizations.”

Office of Management and Budget Circular A-21, “Cost Principles for Educational Institutions.”

OMB Circular A-87, “Cost Principles for State, Local and Indian Governments”.

OMB Circular No. A-110 (Revised), Uniform Administrative Requirements for Grants and Agreements with Institutions of Higher Education, Hospitals, and other Nonprofit Organizations.

OMB Circular No. A-102, Uniform Administrative Requirements for Grants-in-Aid to State and Local Governments.

OMB Circular No. A-133, Audits of States, Local Government, and Non-profit Organizations

Please reference the following Web sites for additional information: http://www.whitehouse.gov/omb/grants; http://exchanges.state.gov/education/grantsdiv/terms.htm#articleI.

VI.3. Reporting Requirements

Grant award recipients must provide ECA with a hard copy original plus two copies of the following reports:

(1) A final program and financial report no more than 90 days after the expiration of the award;

(2) Quarterly program and financial reports which should include a summary of program accomplishments and an updated project time line.

Grantees will be required to provide reports analyzing their evaluation findings to the Bureau in their regular program reports. (Please refer to IV. Application and Submission Instructions (IV.3.d.3) above for Program Monitoring and Evaluation information.

All data collected, including survey responses and contact information, must be maintained for a minimum of three years and provided to the Bureau upon request.

All reports must be sent to the ECA Grants Officer and ECA Program Officer listed in the final assistance award document.

Program Data Requirements: Organizations awarded grants will be required to maintain specific data on program participants and activities in an electronically accessible database format that can be shared with the Bureau as required. As a minimum, the data must include the following:

(1) Name, address, contact information and biographic sketch of all persons who travel internationally on funds provided by the grant or who benefit from the grant funding but do not travel.

(2) Itineraries of international and domestic travel, providing dates of travel and cities in which any exchange experiences take place. Final schedules for in-country and U.S. activities must be received by the ECA Program Officer at least three work days prior to the official opening of the activity.

VII. Agency Contacts

For questions about this announcement, contact: Cultural Programs Division, Office of Citizens Exchanges, ECA/PE/C/CU, Room 568, ECA/PE/C/CU-05-16, U.S. Department of State, SA-44, 301 4th Street, SW., Washington, DC 20547, 202-203-7488 or 202-203-7500; fax: 202-203-7525; ProctorLM@state.gov.

All correspondence with the Bureau concerning this RFGP should reference the above title and ECA/PE/C/CU-05-16. Please read the complete Federal Register announcement before sending inquiries or submitting proposals. Once the RFGP deadline has passed, Bureau staff may not discuss this competition with applicants until the proposal review process has been completed.

VIII. Other Information

Notice: The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements per section VI.3 above.

Dated: December 6, 2004.
C. Miller Crouch,
Principal Deputy Assistant Secretary, Bureau of Educational and Cultural Affairs, Department of State.

[FR Doc. 04-27556 Filed 12-15-04; 8:45 am]

BILLING CODE 4710-05-P